DEPARTMENT OF DEFENSE

DEPARTMENT OF TRANSPORTATION

Coast Guard

DEPARTMENT OF VETERANS AFFAIRS

38 CFR Part 21

RIN 2900-AK40

Increase in Rates Payable Under the Montgomery GI Bill—Selected Reserve

AGENCIES: Department of Defense, Department of Transportation (Coast Guard), and Department of Veterans Affairs.

ACTION: Final rule.

SUMMARY: By statute, the monthly rates of basic educational assistance payable to reservists under the Montgomery GI Bill—Selected Reserve must be adjusted each fiscal year. In accordance with the statutory formula, the regulations governing rates of basic educational assistance payable under the Montgomery GI Bill—Selected Reserve for fiscal year 2001 (October 1, 2000, through September 30, 2001) are changed to show a 3.0% increase in these rates.

DATES: Effective Date: This final rule is effective July 26, 2001.

Applicability Date: The changes in rates are applied retroactively to conform to statutory requirements. For more information concerning the dates of application, see the SUPPLEMENTARY INFORMATION section.

FOR FURTHER INFORMATION CONTACT: William G. Susling, Jr., Assistant Director for Policy and Program Development, Education Service, Veterans Benefits Administration (202) 273-7187.

SUPPLEMENTARY INFORMATION: Under the formula mandated by 10 U.S.C. 16131(b) for fiscal year 2001, the rates of basic educational assistance under the Montgomery GI Bill—Selected Reserve payable to students pursuing a program of education full time, three-quarter time, and half time must be increased by 3.0%, which is the percentage by which the total of the monthly Consumer Price Index-W for July 1, 1999, through June 30, 2000, exceeds the total of the monthly Consumer Price Index-W for July 1, 1998, through June 30, 1999.

10 U.S.C. 16131(b) requires that full-time, three-quarter time, and half-time rates be increased as noted above. In addition, 10 U.S.C. 16131(d) requires that monthly rates payable to reservists in apprenticeship or other on-the-job training must be set at a given percentage of the full-time rate. Hence, there is a 3.0% raise for such training as well.

10 U.S.C. 16131(b) also requires that the Department of Veterans Affairs (VA) pay reservists training less than half time at an appropriately reduced rate. Since payment for less than half-time training became available under the Montgomery GI Bill—Selected Reserve in fiscal year 1990, VA has paid less than half-time students at 25% of the full-time rate. Changes are made consistent with the authority and formula described in this paragraph.

Nonsubstantive changes also are made for the purpose of clarity.

The changes set forth in this final rule are effective from the date of publication, but the changes in rates are applied from October 1, 2000, in accordance with the applicable statutory provisions discussed above.

Administrative Procedure Act

Substantive changes made by this final rule merely reflect statutory requirements and adjustments made based on previously established formulas. Accordingly, there is a basis for dispensing with prior notice and comment and delayed effective date under the provisions of 5 U.S.C. 552 and 553.

Regulatory Flexibility Act

The Secretary of Defense, the Commandant of the Coast Guard, and the Secretary of Veterans Affairs hereby certify that this final rule will not have a significant economic impact on a substantial number of small entities as they are defined in the Regulatory Flexibility Act, 5 U.S.C. 601-612. This final rule directly affects only individuals and does not directly affect small entities. Pursuant to 5 U.S.C. 605(b), this final rule, therefore, is exempt from the initial and final regulatory flexibility analyses requirements of sections 603 and 604.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This rule would have no consequential effect on State, local, or tribal governments.

There is no Catalog of Federal Domestic Assistance number for the program affected by this final rule.

List of Subjects in 38 CFR Part 21

Administrative practice and procedure, Armed forces, Civil rights, Claims, Colleges and universities, Conflict of interests, Defense Department, Education, Employment, Grant programs-education, Grant programs-veterans, Health programs, Loan programs-education, Loan programs-veterans, Manpower training programs, Reporting and recordkeeping requirements, Schools, Travel and transportation expenses, Veterans, Vocational education, Vocational rehabilitation.

Approved: March 27, 2001.
Anthony J. Principi,
Secretary of Veterans Affairs.
Approved: April 17, 2001.
Charles L. Cragin,
Acting Assistant Secretary of Defense for Reserve Affairs.
Approved: July 10, 2001.
F.L. Ames,
Rear Admiral, United States Coast Guard Assistant Commandant for Human Resources.

For the reasons set out above, 38 CFR part 21 (subpart L) is amended as set forth below.

PART 21—VOCATIONAL REHABILITATION AND EDUCATION

Subpart L—Educational Assistance for Members of the Selected Reserve

1. The authority citation for part 21, subpart L continues to read as follows:

Authority: 10 U.S.C. ch. 1606; 38 U.S.C. 501(a), ch. 36, unless otherwise noted.

2. Section 21.7636 is amended by revising paragraphs (a)(1), (a)(2) introductory text, (a)(2)(i), and (a)(3) to read as follows:

§ 21.7636 Rates of payment.

(a) * * *

(1) Except as otherwise provided in this section or in § 21.7639, the monthly rate of basic educational assistance payable for training that occurs after September 30, 2000, and before October 1, 2001, to a reservist pursuing a program of education is the rate stated in this table:

Training | Monthly rate
Full time | $263.00
¾ time | 197.00
½ time | 131.00
¼ time | 65.75

(2) The monthly rate of basic educational assistance payable to a reservist for apprenticeship or other on-the-job training full time that occurs after September 30, 2000, and before October 1, 2001, is the rate stated in this table:

(i)

Training period | Monthly rate
First six months of pursuit of training | $197.25
Second six months of pursuit of training | 144.65
Remaining pursuit of training | 92.05

* * * * *

(3) The monthly rate of basic educational assistance payable to a reservist for pursuit of a cooperative course that occurs after September 30, 2000, and before October 1, 2001, is the rate stated in paragraph (a)(1) of this section for full-time training during that period of time.

(Authority: 10 U.S.C. 16131(b), (c); sec. 8203(b), Pub. L. 105-178, 112 Stat. 493-494)

* * * * *

[FR Doc. 01-18608 Filed 7-25-01; 8:45 am]

BILLING CODE 8320-01-P